DEPARTMENT OF ENERGY

Federal Energy Regulatory Commission

[P-5596-015]

City of Bedford, VA; Notice of Application for Non-Capacity Related Amendment of License and Soliciting Comments, Motions To Intervene, and Protests

January 7, 2009.

Take notice that the following hydroelectric application has been filed with the Commission and is available for public inspection:

a. Type of Application: Request to amend the Bedford Hydropower Project license to allow a variance from the minimum flow requirement during low-inflow/drought conditions and upon consultation with the Virginia Department of Game and Inland Fisheries and the Virginia Department of Environmental Quality.

b. FERC Project No.: 5596-015.

c. Date Filed: December 15, 2008.

d. Applicant: City of Bedford, Virginia.

e. Name of Project: Bedford Hydroelectric Project (P-5596).

f. Location: The Bedford Hydroelectric Project is located on the James River in the counties of Bedford and Amherst, Virginia.

g. Filed Pursuant to: Federal Power Act, 16 U.S.C. 791a-09825r.

h. Applicant Contact: Mr. Charles Kolakowski, City of Bedford, 215 East Main Street, Bedford, Virginia 25423, Tel: (540) 587-6002.

i. FERC Contact: Ms. Rachel Price, (202) 502-8907; e-mail: rachel.price@ferc.gov.

j. Deadline for filing comments, motions to intervene and protests: February 9, 2009.

Please include the project number with the extension 015 (P-5596-015) on any comments or motions filed. All documents should be filed with: Kimberly D. Bose, Secretary, Federal Energy Regulatory Commission, 888 First Street NE., Washington, DC 20426. Comments, protests, and interventions may be filed electronically via the Internet, see 18 CFR 385.2001(a)(1)(iii) and the instructions on the Commission's Web site under the “e-filing” link. The Commission strongly encourages electronic filings. In lieu of electronic filing, an original and eight copies of all documents may be mailed to the Secretary at the address above.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency. A copy of any motion to intervene must also be served upon each representative of the Applicant specified in the particular application.

k. Description of Request: The City of Bedford is requesting a non-capacity amendment to its license for the Bedford Hydroelectric Project in order to allow a variance from the existing minimum instream flow of 400 cubic feet per second (cfs) in the bypass reach during low flow conditions in the James River. The amendment would allow the following project operations depending on flow conditions in the James River as measured at the U.S. Geological Survey gaging station no. 02025500: (1) At flows of 1000 cfs or greater, a minimum instream flow of 400 cfs would be released in the bypass reach; (2) at flows between 800 and 1000 cfs, 600 cfs would go through the turbines for power generation and the remainder (between 200 and 400 cfs) would be released in the bypass reach; and (3) at flows less than 800 cfs, generation would cease and all flows would be released in the bypass reach. In addition, the amendment would require the City of Bedford to notify the Virginia Department of Game and Inland Fisheries (VDGIF) and the Virginia Department of Environmental Quality (VDEQ) if flows in the James River are less than 1000 cfs for five consecutive days, and consult with the VDEQ regarding the continuation of the variance.

l. Location of the Application: The filing is available for inspection and reproduction at the Commission's Public Reference Room, located at 888 First Street, NE., Room 2A, Washington, DC 20426 or by calling (202) 502-8371. This filing may also be viewed on the Commission's Web site at http://ferc.gov using the “eLibrary” link. Enter the docket number excluding the last three digits in the docket number field to access the document. You may also register online at http://www.ferc.gov/docsfiling/esubscription.asp to be notified vial e-mail or new filings and issuances related to this or other pending projects. For assistance, call 1-866-208-3676 or e-mail ferconlinesupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceeding. Any comments, protests, or motions to intervene must be received on or before the specified comment date for the particular application.

o. Any filing must bear in all capital letters the title “COMMENTS”, “PROTEST”, or “MOTION TO INTERVENE”, as applicable, and the Project Number of the particular application to which the filing refers.

p. Agency Comments: Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E9-539 Filed 1-13-09; 8:45 am]

BILLING CODE 6717-01-P